FEDERAL ACCOUNTING STANDARDS ADVISORY BOARD

Notice of Request for Comment on a Proposed Interpretation Exposure Draft, Debt Cancellation: An Interpretation of Statement of Federal Financial Accounting Standards (SFFAS) 7, Paragraph 313

AGENCY: Federal Accounting Standards Advisory Board.

ACTION: Notice.

SUMMARY: Notice is hereby given that the Federal Accounting Standards Advisory Board (FASAB) has issued an exposure draft of a proposed Interpretation of Federal Financial Accounting Standards titled Debt Cancellation: An Interpretation of SFFAS 7, Paragraph 313.

DATES: Respondents are encouraged to comment on any part of the exposure draft. Written comments are requested by July 23, 2021, and should be sent to fasab@fasab.gov or Monica R. Valentine, Executive Director, Federal Accounting Standards Advisory Board, 441 G Street NW, Suite 1155, Washington, DC 20548.

ADDRESSES: The exposure draft is available on the FASAB website at https://www.fasab.gov/documents-for-comment/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), the Federal Advisory Committee Act, as amended (5 U.S.C. App.), and the FASAB Rules of Procedure, as amended in October 2010.

Dated: June 21, 2021.
Monica R. Valentine,
Executive Director.

[FR Doc. 2021-13491 Filed 6-24-21; 8:45 am]

BILLING CODE P